DEPARTMENT OF STATE

[Public Notice 5258]

Bureau of Political-Military Affairs: Directorate of Defense Trade Controls: Renewal of Defense Trade Advisory Group Charter

AGENCY: Department of State.

ACTION: Notice.

SUMMARY: Notice is hereby given that the Charter of the Defense Trade Advisory Group (DTAG) has been renewed for a two-year period. The membership of this advisory committee consists of private sector defense trade specialists appointed by the Assistant Secretary of State for Political-Military Affairs who advise the Department on policies, regulations, and technical issues affecting defense trade.

FOR FURTHER INFORMATION CONTACT: Mary F. Sweeney, DTAG Secretariat, U.S. Department of State, Office of Defense Trade Controls Management, Room 1200, SA-1, Washington, DC 20522-0112, Telephone (202) 663-2865, Fax (202) 261-8199, and E-mail: sweeneymf@state.gov.

Dated: March 15, 2006.
Michael T. Dixon,
Executive Secretary, Defense Trade Advisory Group, Department of State.

[FR Doc. E6-4080 Filed 3-20-06; 8:45 am]

BILLING CODE 4710-25-P